DEPARTMENT OF THE TREASURY

Submission for OMB Review; Comment Request

May 19, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 25, 2004 to be assured of consideration.

Internal Revenue Service (IRS)

OMB Number: 1545-1081.

Form Number: IRS Form 8809.

Type of Review: Revision.

Title: Request for Extension of Time to File Information Returns.

Description: Form 8809 is used to request an extension of time to file certain information returns. It is used by IRS to process requests expeditiously and to track from year to year those who repeatedly ask for an extension.

Respondents: Business or other for-profit, individuals or households, not-for-profit institutions, farms, Federal government, State, local or tribal government.

Estimated Number of Respondents/Recordkeeping: 50,000.

Estimated Burden Hours Respondent/Recordkeepers:

Recordkeeping—2 hr., 10 min.

Learning about the law or the form—36 min.

Preparing and sending the form to the IRS—28 min.

Frequency of response: On occasion.

Estimated Total Reporting/Recordkeeping Burden: 162,500 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-11901 Filed 5-25-04; 8:45 am]

BILLING CODE 4830-01-P